DEPARTMENT OF AGRICULTURE

Commodity Credit Corporation

Natural Resources Conservation Service

7 CFR Part 1469

Conservation Security Program

AGENCY: Commodity Credit Corporation and the Natural Resources Conservation Service, USDA.

ACTION: Interim final rule; extension of public comment period.

SUMMARY: The Conservation Security Program (CSP) is authorized by Title XII, Chapter 2, Subchapter A, of the Food Security Act of 1985, as amended by the Farm Security and Rural Investment Act of 2002. The Natural Resources Conservation Service (NRCS) published an amendment to the interim final rule for CSP on March 25, 2005, (70 FR 15201), with a comment period expiring July 25, 2005. By this notice, NRCS is extending the period during which it will accept public comment on the amended interim final rule for CSP to September 9, 2005. This extension is to give the public additional time to comment on key issues that have been raised regarding the implementation of the program under the amended interim final rule.

DATES: Comments must be postmarked by midnight, September 9, 2005.

ADDRESSES: Send comments in writing, by mail, to Financial Assistance Programs Division, Natural Resources Conservation Service, P.O. Box 2890, Washington, DC 20013-2890, or by e-mail to FarmBillRules@usda.gov; Attn: Conservation Security Program.

The amended interim final rule may also be accessed via the Internet through the NRCS homepage, at http://www.nrcs.usda.gov, and by selecting Programs. All comments, including names and addresses when provided, are placed in the record and are available for public inspection.

FOR FURTHER INFORMATION CONTACT: Craig Derickson, Conservation Security Program Manager, Financial Assistance Programs Division, NRCS, P.O. Box 2890, Washington, DC 20013-2890, telephone: (202) 720-1845; fax: (202) 720-4265. Submit e-mail to: craig.derickson@wdc.usda.gov, Attention: Conservation Security Program.

Signed in Washington, DC, on July 14, 2005.
Bruce I. Knight,
Chief, Natural Resources Conservation Service, Vice President, Commodity Credit Corporation.

[FR Doc. 05-14297 Filed 7-19-05; 8:45 am]

BILLING CODE 3410-16-P